DEPARTMENT OF THE TREASURY

Agency Information Collection Activities; Submission for OMB Review; Comment Request; Multiple Office of Foreign Assets Control Information Collection Requests

AGENCY: Office of Foreign Assets Control, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before August 29, 2022 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Office of Foreign Assets Control (OFAC)

1. Title: OFAC Application for the Release of Blocked Funds.

OMB Number: 1505-0170.

Description: Transactions prohibited pursuant to the Trading With the Enemy Act, 50 U.S.C. 4301-4341, the International Emergency Economic Powers Act, 50 U.S.C. 1701 et seq., and other authorities may be authorized by means of specific licenses issued by OFAC. Such licenses are issued in response to applications submitted by persons whose property and interests in property have been blocked or who wish to engage in transactions that would otherwise be prohibited. The OFAC Application for the Release of Blocked Funds, which provides a standardized method of application for all applicants seeking the unblocking of funds, is available in electronic format on OFAC's website. By obviating the need for applicants to write lengthy letters to OFAC, this form and the electronic portal reduce the overall burden of the application process. Applications to OFAC for the release of blocked funds are strongly encouraged to be made via the electronic licensing portal here: https://home.treasury.gov/policy-issues/financial-sanctions/ofac-license-application-page.

Type of Review: Extension without change of a currently approved collection.

Affected Public: Businesses or other for-profits, individuals and households, and non-governmental organizations.

Estimated Number of Respondents: 6,700.

Frequency of Response: 1 per respondent.

Estimated Total Number of Annual Responses: 6,700.

Estimated Time per Response: 30 minutes.

Estimated Total Annual Burden Hours: 3,350 hours.

2. Title: Persons Providing Travel and Carrier Services to Cuba.

OMB Number: 1505-0168.

Type of Review: Extension without change of a currently approved collection.

Form Number: Section 515.572 does not specify any particular form of recordkeeping.

Description: Requirements to retain records are codified in § 515.572 of the Cuban Assets Control Regulations, 31 CFR part 515 (the “Regulations”). Persons subject to U.S. jurisdiction who provide authorized travel or carrier services related to Cuba are required to maintain for at least five years from the date of the transaction a certification from each customer indicating the name and address of each customer and the section of the Regulations (in the case of generally licensed travel), or the specific license number, that authorizes the person to travel to Cuba.

The records covered by this information collection must be provided on request to the U.S. Department of the Treasury, and support OFAC's implementation of its compliance and enforcement programs pursuant to the Regulations.

Type of Review: Extension without change of a currently approved collection.

Affected Public: Businesses or other for-profits, individuals and households, and non-governmental organizations.

Estimated Number of Respondents: 565,000 respondents per year.

Estimated Number of Records per Respondent: 1 per respondent.

Estimated Total Number of Annual Records: 565,000 records.

Estimated Time per Record: 1 minute per record.

Estimated Total Annual Burden Hours: 9,417 hours.

Authority: 44 U.S.C. 3501 et seq.

Melody Braswell,
Treasury PRA Clearance Officer.

[FR Doc. 2022-16246 Filed 7-28-22; 8:45 am]

BILLING CODE 4810-AL-P